DEPARTMENT OF TRANSPORTATION

Federal Aviation Administration

14 CFR Parts 1, 23, 25, 27, 29, 61, 91, 121, 125, and 135

[Docket No.: FAA-2013-0485; Amdt. Nos. 1-70A, 23-63A, 25-144A, 27-48A, 29-56A, 61-139A, 91-345A, 121-376A, 125-66A, and 135-135A]

RIN 2120-AJ94

Revisions to Operational Requirements for the Use of Enhanced Flight Vision Systems (EFVS) and to Pilot Compartment View Requirements for Vision Systems

AGENCY: Federal Aviation Administration (FAA), Department of Transportation (DOT).

ACTION: Final rule; delay of effective date.

SUMMARY: On December 13, 2016, the Federal Aviation Administration (FAA) published a final rule to permit operators to use an enhanced flight vision system in lieu of natural vision to continue descending from 100 feet above the touchdown zone elevation to the runway and to land on certain straight-in instrument approach procedures under instrument flight rules. The FAA is delaying the effective date of this final rule.

DATES: The effective date of the rule amending 14 CFR parts 1, 23, 25, 27, 29, 61, 91, 121, 125, and 135 published at 81 FR 90126, December 13, 2016, is delayed until March 21, 2017, except for the amendments to §§ 61.66 (amendatory instruction no. 15), 91.175 (amendatory instruction no. 18), 91.1039 (amendatory instruction no. 23), 121.651 (amendatory instruction no. 27), 125.325 (amendatory instruction no. 33), 125.381 (amendatory instruction no. 35), and 135.225 (amendatory instruction no. 38), which are effective March 13, 2018.

FOR FURTHER INFORMATION CONTACT: Terry King, Flight Technologies and Procedures Division, AFS-400, Flight Standards Service, Federal Aviation Administration, 800 Independence Avenue SW., Washington, DC 20591; telephone (202) 267-8790; email Terry.King@faa.gov.

SUPPLEMENTARY INFORMATION: On December 13, 2016, the FAA published the final rule Revisions to Operational Requirements for the Use of Enhanced Flight Vision Systems (EFVS) and to Pilot Compartment View Requirements for Vision Systems. That final rule permits operators to use an EFVS in lieu of natural vision to continue descending from 100 feet above the touchdown zone elevation to the runway and to land on certain straight-in instrument approach procedures under instrument flight rules. Additionally, the final rule addresses provisions that permit operators who conduct EFVS operations under 14 CFR part 121, 125, or 135 to use EFVS-equipped aircraft to dispatch, release, or takeoff under instrument flight rules, and revises the regulations for those operators to initiate and continue an approach, when the destination airport weather is below authorized visibility minimums for the runway of intended landing. The final rule establishes pilot training and recent flight experience requirements for operators who use EFVS in lieu of natural vision to descend below the decision altitude/decision height or minimum descent altitude. EFVS-equipped aircraft conducting operations to touchdown and rollout are required to meet additional airworthiness requirements. The final rule also revises pilot compartment view certification requirements for vision systems using a transparent display surface located in the pilot's outside field of view.

In accordance with the President's memorandum “Regulatory Freeze Pending Review” issued January 20, 2017, and the accompanying M-17-16, Implementation of Regulatory Freeze, issued January 24, 2017, the FAA is hereby delaying the effective date of the final rule from March 13, 2017 to March 21, 2017. This delay in effective date will allow for the review of this final rule in accordance with the President's memorandum.

The FAA emphasizes that the amendments to §§ 61.66 (amendatory instruction no. 15), 91.175 (amendatory instruction no. 18), 91.1039 (amendatory instruction no. 23), 121.651 (amendatory instruction no. 27), 125.325 (amendatory instruction no. 33), 125.381 (amendatory instruction no. 35), and 135.225 (amendatory instruction no. 38), discussed in the December 13, 2016, final rule are not affected by this change in effective date of the final rule. Those provisions will become effective March 13, 2018. This change in effective date of the final rule also does not affect the date by which persons conducting EFVS operations to 100 feet above the TDZE under §§ 91.175(l) and (m) must begin conducting them under § 91.176(b) and thus comply with the training, recent flight experience, and refresher training requirements of § 61.66. The compliance date for these provisions is March 13, 2018. The FAA also notes that the date specified in § 61.66(h)(4) remains unchanged. Section 61.66(h)(4) excepts persons from the ground and flight training requirements in § 61.66(a) and (b) if they are conducting EFVS operations under § 91.176(b) and can document that prior to March 13, 2018, they have satisfactorily completed ground and flight training on EFVS operations to 100 feet above the TDZE.

Administrative Procedure Act

Section 553(b)(3)(B) of Title 5, United States Code, (the Administration Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no change to the rule.

Issued under authority provided by 49 U.S.C. 106(f), 44701(a), and 44703 in Washington, DC on February 2, 2017.
Dale A. Bouffiou,
Acting Director, Office of Rulemaking.

[FR Doc. 2017-02582 Filed 2-7-17; 8:45 am]

BILLING CODE 4910-13-P